DEPARTMENT OF COMMERCE

International Trade Administration

[A-427-831, A-588-879, A-469-822]

Methionine From France, Japan and Spain: Postponement of Preliminary Determinations in the Less-Than-Fair-Value Investigations

AGENCY: Enforcement and Compliance, International Trade Administration, Department of Commerce.

DATES: Applicable December 14, 2020.

FOR FURTHER INFORMATION CONTACT: Zachary Shaykin at (202) 482-2638 (France); Robert Scully at (202) 482-0572 (Japan); and Elizabeth Bremer at (202) 482-4987 (Spain); AD/CVD Operations, Enforcement and Compliance, International Trade Administration, U.S. Department of Commerce, 1401 Constitution Avenue NW, Washington, DC 20230.

SUPPLEMENTARY INFORMATION:

Background

On August 18, 2020, the Department of Commerce (Commerce) initiated less-than-fair-value (LTFV) investigations of imports of methionine from France, Japan, and Spain.¹ Currently, the preliminary determinations are due no later than January 5, 2021.

¹ See Methionine from France, Japan and Spain: Initiation of Less-Than-Fair-Value Investigations, 85 FR 52324 (August 25, 2020).

Postponement of Preliminary Determinations

Section 733(b)(1)(A) of the Tariff Act of 1930, as amended (the Act), requires Commerce to issue the preliminary determination in an LTFV investigation within 140 days of the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On December 1, 2020, Novus International, Inc. (the petitioner) submitted a timely request that Commerce postpone the preliminary determinations in these LTFV investigations.² The petitioner stated that it requests postponement due to concerns that Commerce will need further information and complete questionnaire responses. Under the current timeline, the petitioner believes that Commerce will not have complete responses and sufficient information to issue these preliminary determinations.³

² See Petitioner's Letter, “Methionine from France, Spain, and Japan: Request to Extend Preliminary Determinations,” dated December 1, 2020.

³ Id.

For the reasons stated above, and because there are no compelling reasons to deny the request, Commerce, in accordance with section 733(c)(1)(A) of the Act and 19 CFR 351.205(e), is postponing the deadline for these preliminary determinations by 50 days (i.e., 190 days after the date on which these investigations were initiated). As a result, Commerce will issue its preliminary determinations no later than February 24, 2021. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: December 8, 2020.
Jeffrey I. Kessler,
Assistant Secretary for Enforcement and Compliance.

[FR Doc. 2020-27422 Filed 12-11-20; 8:45 am]

BILLING CODE 3510-DS-P